Presidential Determination No. 2001-17 of June 1, 2001

Determination Under Subsection 402(d)(1) of the Trade Act of 1974, as Amended_Continuation of Waiver Authority for Vietnam

Memorandum for the Secretary of State

Pursuant to the authority vested in me under the Trade Act of 1974, as amended, Public Law 93-618, 88 Stat. 1978 (hereinafter the “Act”), I determine, pursuant to section 402(d)(1) of the Act, 19 U.S.C. 2432(d)(1), that the further extension of the waiver authority granted by section 402 of the Act will substantially promote the objectives of section 402 of the Act. I further determine that continuation of the waiver applicable to Vietnam will substantially promote the objectives of section 402 of the Act.

You are authorized and directed to publish this determination in the Federal Register.

B

THE WHITE HOUSE,

Washington, June 1, 2001.

[FR Doc. 01-14520

Filed 6-6-01; 8:45 am]

Billing code 4710-10-M